FEDERAL COMMUNICATIONS COMMISSION

Notice of Public Information Collection(s) Being Submitted for Review to the Office of Management and Budget, Comments Requested

June 20, 2008.

SUMMARY: As part of its continuing effort to reduce paperwork burden and as required by the Paperwork Reduction Act (PRA) of 1995 (44 U.S.C. 3501-3520), the Federal Communications Commission invites the general public and other Federal agencies to comment on the following information collection(s). Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before July 28, 2008. If you anticipate that you will be submitting PRA comments, but find it difficult to do so within the period of time allowed by this notice, you should advise the FCC contact listed below as soon as possible.

ADDRESSES: Submit your comments to Nicholas A. Fraser, Office of Management and Budget (e-mail address: nfraser@omb.eop.gov), and to the Federal Communications Commission's PRA mailbox (e-mail address: PRA@fcc.gov). Include in the e-mails the OMB control number of the collection as shown in the SUPPLEMENTARY INFORMATION section below or, if there is no OMB control number, the Title as shown in the SUPPLEMENTARY INFORMATION section. If you are unable to submit your comments by e-mail contact the person listed below to make alternate arrangements.

FOR FURTHER INFORMATION CONTACT: For additional information contact Leslie F. Smith via e-mail at PRA@fcc.gov or at (202) 418-0217. To view or obtain a copy of an information collection request (ICR) submitted to OMB: (1) Go to this OMB/GSA Web page: http://www.reginfo.gov/public/do/PRAMain, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the OMB control number of the ICR you want to view (or its title if there is no OMB control number) and then click on the ICR Reference Number. A copy of the FCC submission to OMB will be displayed.

SUPPLEMENTARY INFORMATION: OMB Control Number: 3060-0819.

Title: Sections 54.400-54.417, Lifeline Assistance (Lifeline) Connection Assistance (Link-Up) Reporting Worksheet and Instructions, FCC Form 497.

Form Number(s): FCC Form 497.

Type of Review: Revision of a currently approved collection.

Respondents: Individuals or households; and business or other for-profit.

Number of Respondents and Responses: 201,855 respondents; 227,055 responses.

Estimated Time per Response: 0.08-3.5 hours.

Obligation To Respond: Required to obtain or retain benefits.

Frequency of Response: On occasion, annually, one time reporting requirement; and recordkeeping requirement.

Total Annual Burden: 61,788 hours.

Total Annual Cost: $0.00.

Privacy Act Impact Assessment: No impact(s).

Nature and Extent of Confidentiality: The respondents may request confidentiality protection for the special access performance information. The respondents are not required to file their customers' monthly usage information with the Federal Communications Commission (FCC).

Needs and Uses: Since the release of the Lifeline Order, WC Docket No. 03-109, FCC 04-87, in April 2004, the Commission has taken several steps to streamline program requirements and further safeguard the Universal Service Fund from waste, fraud, and abuse. Specifically, sample certification and verification letters are provided on the Universal Service Administrative Company's (USAC) Web site to assist eligible telecommunications carriers (ETCs) in complying with certification and verification requirements adopted in the Lifeline Order. Although the use of such letters is optional, ETCs are encouraged to make use of them because they standardize the collection of information and reduce the likelihood of errors in providing the information that is needed. In addition, on August 29, 2007, the Commission released the 2007 Order, 2007 Comprehensive Review of the Universal Service Fund Management, Administration and Oversight, WC Docket Nos. 05-195, 02-60, 03-109 and CC Docket Nos. 96-45, 02-6, 97-21, FCC 07-150. In this 2007 Order, the Commission requires ETCs to retain records verifying the eligibility of a Lifeline recipient for as long as the ETC provides Lifeline service to that customer, even after being audited. Finally, the Lifeline and Link Up Worksheet (Form 497) and the accompanying instructions have been updated to reflect changes in the federal tariffed End User Common Line charge (EUCL).

OMB Control Number: 3060-0986.

Title: Competitive Carrier Line Count Report.

Form Number: FCC Form 525.

Type of Review: Extension of a currently approved collection.

Respondents: Business or other for-profit.

Number of Respondents and Responses: 1,873 respondents; 6,201 responses.

Estimated Time per Response: 0.25-10 hours.

Obligation to Respond: Required to obtain or retain benefits.

Frequency of Response: On occasion, quarterly and annual reporting requirements; third party disclosure requirement.

Total Annual Burden: 8,692 hours.

Total Annual Cost: $0.00.

Privacy Act Impact Assessment: No impacts.

Nature of Extent of Confidentiality: The Commission is not requesting that the respondents submit confidential information to the FCC. Respondents may, however, request confidential treatment for information they believe to be confidential under 47 CFR 0.459 of the Commission's rules.

Needs and Uses: The Commission will use the information requirements to determine whether and to what extent rural telecommunications carriers and competitive eligible telecommunications carriers (ETCs) providing the data are eligible to receive universal service support. This information includes loop counts, by disaggregation zone, for rural incumbent carriers, which is used to calculate the per-line high-cost universal service support amount available to competitive ETCs serving their territories. It also includes loop counts, by disaggregation zone or unbundled network element zone, for competitive ETCs, which is used to calculate the total high-cost universal service support amount available to competitive ETCs. This competitive ETC loop count requirement includes areas served by incumbent non-rural carriers, in addition to incumbent rural carriers, due to the consolidation of information collections included in a previous revision. Additionally, this information collection requires states to certify that incumbent rural carriers and competitive ETCs are using the high-cost universal service support only for the provision, maintenance, and upgrading of facilities and services for which the supports is intended. Finally, this information collection includes cost data filed by incumbent rural carriers on an as-needed basis to establish eligibility for the safety net and safety valve high-cost universal service support mechanisms.

Federal Communications Commission.
Marlene H. Dortch,
Secretary.

[FR Doc. E8-14424 Filed 6-25-08; 8:45 am]

BILLING CODE 6712-01-P